DEPARTMENT OF TRANSPORTATION

Surface Transportation Board

[STB Docket No. AB-55 (Sub-No. 653X)]

CSX Transportation, Inc.—Abandonment Exemption—in Pike County, KY

On July 15, 2004, CSX Transportation, Inc. (CSXT) filed with the Board a petition under 49 U.S.C. 10502 for exemption from the provisions of 49 U.S.C. 10903-04 to abandon a segment at the end of its line of railroad in its Southern Region, Huntington Division, Big Sandy Subdivision, also known as the Beaver Creek Spur. The 1.43-mile segment extends from milepost CMH 0.00 near Dunleary to the end of the line at milepost CMH 1.43, all in Pike County, KY. The line traverses United States Postal Service ZIP Code 41522 and includes the stations of Praise Dock, Little Beaver, and Little Beaver Dock.

In addition to an exemption from 49 U.S.C. 10903, petitioner seeks exemption from 49 U.S.C. 10904 (offer of financial assistance (OFA) procedures) as clarified in a letter dated July 19, 2004. In support, CSXT states that it has agreed to sell the right-of-way upon abandonment to the Kentucky Transportation Cabinet (KTC) for use in a highway expansion project. Also to assist KTC with this project, CSXT requests that the Board provide expedited handling and issue a decision within 60 days from the filing date of this proceeding, or by September 13, 2004. These requests will be addressed in the final decision.

The line does not contain federally granted rights-of-way. Any documentation in CSXT's possession will be made available promptly to those requesting it.

The interest of railroad employees will be protected by the conditions set forth in Oregon Short Line R. Co.-Abandonment-Goshen, 360 I.C.C. 91 (1979).

By issuance of this notice, the Board is instituting an exemption proceeding pursuant to 49 U.S.C. 10502(b). A final decision will be issued by November 2, 2004 (sooner if the request for expedited handling can be accommodated).

Any offer of financial assistance (OFA) under 49 CFR 1152.27(b)(2) will be due no later than 10 days after service of a decision granting the petition for exemption, unless the Board grants the requested exemption from the OFA process. Each offer must be accompanied by a $1,100 filing fee. See 49 CFR 1002.2(f)(25).

All interested persons should be aware that, following abandonment of rail service and salvage of the line, the line may be suitable for other public use, including interim trail use, if CSXT does not sell the right-of-way to KTC. Any request for a public use condition under 49 CFR 1152.28 or for trail use/rail banking under 49 CFR 1152.29 will be due no later than August 24, 2004. Each trail use request must be accompanied by a $200 filing fee. See 49 CFR 1002.2(f)(27).

All filings in response to this notice must refer to STB Docket No. AB-55 (Sub-No. 653X) and must be sent to: (1) Surface Transportation Board, 1925 K Street, NW., Washington, DC 20423-0001; and (2) Louis E. Gitomer, 1455 F Street, NW., Suite 225, Washington, DC 20005. Replies to the CSXT petition are due on or before August 24, 2004.

Persons seeking further information concerning abandonment procedures may contact the Board?s Office of Public Services at (202) 565-1592 or refer to the full abandonment or discontinuance regulations at 49 CFR part 1152. Questions concerning environmental issues may be directed to the Board?s Section of Environmental Analysis (SEA) at (202) 565-1539. (Assistance for the hearing impaired is available through the Federal Information Relay Service (FIRS) at 1-800-877-8339.) An environmental assessment (EA) (or environmental impact statement (EIS), if necessary), prepared by SEA, will be served upon all parties of record and upon any agencies or other persons who commented during its preparation. Other interested persons may contact SEA to obtain a copy of the EA (or EIS). The EA in an abandonment proceeding normally will be made available within 60 days of the filing of the petition. The deadline for submission of comments on the EA will generally be within 30 days of its service. Here, SEA anticipates issuing the EA on August 4, 2004, and making comments due by August 24, 2004, to help put the Board in a position to accommodate petitioner's request for expedited handling.

Board decisions and notices are available on the Board's Web site at http://www.stb.dot.gov.

Decided: July 28, 2004.
By the Board, David M. Konschnik, Director, Office of Proceedings.
Vernon A. Williams,
Secretary.

[FR Doc. 04-17655 Filed 8-3-04; 8:45 am]

BILLING CODE 4915-01-P